ENVIRONMENTAL PROTECTION AGENCY

40 CFR Part 52

[EPA-R04-OAR-2006-0649; FRL-8725-2]

Approval and Promulgation of Implementation Plans; Georgia; Prevention of Significant Deterioration and Nonattainment New Source Review Rules; Extension of Comment Period

AGENCY: Environmental Protection Agency (EPA).

ACTION: Extension of public comment period.

SUMMARY: EPA is extending the comment period for a proposed rule published September 4, 2008 (73 FR 51606). On September 4, 2008, EPA proposed to partially approve and disapprove portions of revisions to the Georgia State Implementation Plan (SIP) submitted by the State of Georgia in three submittals dated October 31, 2006, March 5, 2007, and August 22, 2007. The proposed revisions modify Georgia's Prevention of Significant Deterioration and Nonattainment New Source Review permitting rules in the SIP to address changes to the federal New Source Review (NSR) regulations, which were promulgated by EPA on December 31, 2002, and reconsidered with minor changes on November 7, 2003 (collectively, these two final actions are referred to as the “2002 NSR Reform Rules”). At the request of several commentors, EPA is extending the comment period through November 5, 2008.

DATES: Written comments must be received on or before November 5, 2008.

ADDRESSES: Comments should be submitted to: Ms. Kelly Fortin, Air Permits Section, Air Planning Branch, Air, Pesticides and Toxics Management Division, U.S. Environmental Protection Agency, Region 4, 61 Forsyth Street, SW., Atlanta, Georgia 30303-8960. Telephone number: (404) 562-9117; e-mail address: fortin.kelly@epa.gov. Additional instructions to comment can be found in the notice of proposed rulemaking published September 4, 2008 (73 FR 51606).

FOR FURTHER INFORMATION CONTACT: For information regarding the Georgia State Implementation Plan, contact Ms. Stacy Harder, Regulatory Development Section, Air Planning Branch, Air, Pesticides and Toxics Management Division, U.S. Environmental Protection Agency Region 4, 61 Forsyth Street, SW., Atlanta, Georgia 30303-8960. Telephone number: (404) 562-9042; e-mail address: harder.stacy@epa.gov. For information regarding New Source Review, contact Ms. Kelly Fortin, Air Permits Section, at the same address above. Telephone number: (404) 562-9117; e-mail address: fortin.kelly@epa.gov.

Dated: September 26, 2008.
J.I. Palmer, Jr.,
Regional Administrator, Region 4.

[FR Doc. E8-23554 Filed 10-3-08; 8:45 am]

BILLING CODE 6560-50-P